DEPARTMENT OF DEFENSE

GENERAL SERVICES ADMINISTRATION

NATIONAL AERONAUTICS AND SPACE ADMINISTRATION

48 CFR Parts 1, 5, 8, 9, 12, 13, 15, 19, 22, 25, 30, 50, and 52

[FAR Case 2018-007; Docket No. 2018-0007, Sequence No. 1]

RIN 9000-AN67

Federal Acquisition Regulation: Applicability of Inflation Adjustments of Acquisition-Related Thresholds

AGENCY: Department of Defense (DoD), General Services Administration (GSA), and National Aeronautics and Space Administration (NASA).

ACTION: Proposed rule.

SUMMARY: DoD, GSA, and NASA are proposing to amend the Federal Acquisition Regulation (FAR) to implement a section of the National Defense Authorization Act (NDAA) for Fiscal Year (FY) 2018 to make inflation adjustments of statutory acquisition-related thresholds applicable to existing contracts and subcontracts in effect on the date of the adjustment that contain the revised clauses as proposed in this rulemaking.

DATES: Interested parties should submit written comments to the Regulatory Secretariat Division at one of the addresses shown below on or before August 23, 2019 to be considered in the formation of the final rule.

ADDRESSES: Submit comments in response to FAR Case 2018-007 by any of the following methods:

• Regulations.gov: http://www.regulations.gov. Submit comments via the Federal eRulemaking portal by searching for “FAR Case 2018-007”. Select the link “Comment Now” that corresponds with “FAR Case 2018-007”. Follow the instructions provided on the screen. Please include your name, company name (if any), and “FAR Case 2018-007” on your attached document.

• Mail: General Services Administration, Regulatory Secretariat Division (MVCB), ATTN: Lois Mandell, 1800 F Street NW, 2nd Floor, Washington, DC 20405.

Instructions: Please submit comments only and cite “FAR Case 2018-007”, in all correspondence related to this case. All comments received will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, at 202-969-7207 for clarification of content. For information pertaining to status or publication schedules, contact the Regulatory Secretariat Division at 202-501-4755. Please cite “FAR Case 2018-007”.

SUPPLEMENTARY INFORMATION:

I. Background

DoD, GSA, and NASA are proposing to amend the FAR to make inflation adjustments of statutory acquisition-related thresholds under 41 U.S.C. 1908 applicable to existing contracts and subcontracts in effect on the date of the adjustment. This FAR change will implement section 821 of the NDAA for FY 2018 (Pub. L. 115-91).

41 U.S.C. 1908, Inflation adjustment of acquisition-related dollar thresholds, requires an adjustment every five years of acquisition-related thresholds for inflation using the Consumer Price Index for all urban consumers, except for the Construction Wage Rate Requirements statute (Davis-Bacon Act), Service Contract Labor Standards statute, and trade agreements thresholds. See FAR 1.109. The last FAR case which raised the thresholds for inflation was 2014-022, a final rule published on July 2, 2015, effective October 1, 2015. The next final rule to be published raising thresholds for inflation under 41 U.S.C. 1908 will be effective October 1, 2020.

II. Discussion and Analysis

As required by section 821 of the NDAA for FY 2018, DoD, GSA, and NASA are proposing to revise thresholds subject to inflation adjustment so that the periodic inflation adjustments will apply to existing contracts and subcontracts that contain the revised clauses.

A. The following summarizes the proposed changes to FAR parts 1, 5, 8, 9, 12, 13, 15, 19, 22, 25, 30, and 50:

1. Adds a new paragraph at FAR 1.109, Statutory acquisition-related dollar thresholds—adjustment for inflation, to explain the impact of section 821 of the NDAA for FY 2018.

2. Replaces numerical values, throughout the FAR text, that are based on the value of the micro-purchase threshold or the simplified acquisition threshold with the term “micro-purchase threshold” or “simplified acquisition threshold”.

3. Adds a statement at FAR 15.403-4 to explain that if a clause refers to the certified cost or pricing data threshold, and if the threshold is adjusted for inflation, then the changed threshold applies throughout the remaining term of the contract, unless there is a subsequent threshold adjustment.

4. Adds a statement at FAR 30.201-1 that the lower threshold for applicability of Cost Accounting Standards (CAS) is the amount set forth in 10 U.S.C. 2306a(a)(1)(A)(i), as adjusted for inflation.

B. The following summarizes proposed changes to FAR part 52.

1. Replaces, throughout part 52 as appropriate, numerical values that are based on the value of the micro-purchase threshold or the simplified acquisition threshold with the term “micro-purchase threshold” or “simplified acquisition threshold”. When the term “simplified acquisition threshold” or “micro-purchase threshold” is used, adds a reference to the definition in FAR 2.101.

2. Amends FAR 52.202-1, Definitions, to state that if the simplified acquisition threshold or micro-purchase threshold is adjusted for inflation, then the changed threshold applies throughout the remaining term of the contract, unless there is a subsequent threshold adjustment.

3. Replaces the numerical value for certain thresholds (other than the micro-purchase and simplified acquisition thresholds) with a reference to the applicable FAR text that specifies the numerical threshold.

4. Adds, to applicable clauses, the phrases “on the date of subcontract award,” “on the date of execution of the modification,” or “on the date of award of this contract”, to describe the date on which the applicable threshold value will be determined.

5. Adds a statement at FAR 52.214-28(b), 52.215-12(a), 52.215-13(b), and 52.215-21 that explains that if the threshold for submission of certified cost or pricing data is adjusted for inflation, then the changed threshold applies throughout the remaining term of the contract, unless there is a subsequent threshold adjustment.

6. Adds a reference, at FAR 52.230-1 through 52.230-5, to the lower CAS threshold specified at FAR 30.201-4(b).

III. Applicability to Contracts at or Below the Simplified Acquisition Threshold and for Commercial Items, Including Commercially Available Off-the-Shelf Items

This rule does not add any new solicitation provisions or clauses, or impact any existing provisions or clauses, except for the added references to acquisition-related thresholds in the FAR text.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule is not a significant regulatory action, and therefore, this rule was not subject to the review of the Office of Information and Regulatory Affairs under section 6(b) of E.O. 12866. This rule is not a major rule under 5 U.S.C. 804.

V. Executive Order 13771

This rule is not an E.O. 13771 regulatory action, because this rule is not significant under E.O. 12866.

VI. Regulatory Flexibility Act

DoD, GSA, and NASA do not expect this proposed rule to have a significant economic impact on a substantial number of small entities within the meaning of the Regulatory Flexibility Act, 5 U.S.C. 601 et seq. However, an Initial Regulatory Flexibility Analysis (IRFA) has been performed and is summarized as follows:

DoD, GSA, and NASA are proposing to amend the Federal Acquisition Regulation (FAR) to make inflation adjustments of statutory acquisition-related thresholds under 41 U.S.C. 1908(d) applicable to existing contracts and subcontracts in effect on the date of the adjustment that contain the revised clauses.

The objective is to implement section 821 of the National Defense Authorization Act for Fiscal Year (FY) 2018. The legal basis for this rule is 40 U.S.C. 121(c), 10 U.S.C. chapter 137, and 51 U.S.C. 20113.

This proposed rule will likely affect to some extent all small business concerns that submit offers or are awarded contracts by the Federal Government.

However, this rule is not expected to have any significant economic impact on small business concerns because this rule: (1) Is not creating any new requirements with which small entities must comply, and (2) is only establishing the framework to apply the inflation adjustments of statutory acquisition-related thresholds under 41 U.S.C. 1908 to existing contracts and subcontracts in effect on the date of the adjustment. Any impact on small business concerns will be beneficial by preventing burdensome requirements from continuing to apply to smaller dollar value contracts when acquisition thresholds are increased during the period of performance.

As of September 30, 2017, there were 637,791 active entity registrations in SAM.gov. Of those active entity registrations, 452,310 (71 percent) completed all four modules of the registration, in accordance with FAR 52.204-7(a)(2), including Assertions (where they enter their size metrics and select their NAICS Codes) and Reps & Certs (where they certify to the information they provided and the size indicator by NAICS).

Of the possible 452,310 active SAM.gov entity registrations, 338,207 (75 percent) certified to meeting the size standard of small for their primary NAICS Code. Therefore, this rule may be beneficial to 338,207 small business entities that submit proposals that may now fall under the micro-purchase threshold, the simplified acquisition threshold, or other applicable acquisition thresholds (e.g., contractor code of business ethics and conduct, reporting executive compensation and first-tier subcontract awards, equal opportunity for veterans) as a result of this rule.

The proposed rule does not include additional reporting or record keeping requirements.

The rule does not duplicate, overlap, or conflict with any other Federal rules.

There are no available alternatives to the proposed rule to accomplish the desired objective of the statute. DoD, GSA, and NASA do not expect this proposed rule to have a significant economic impact on a substantial number of small entities because the rule is not implementing any requirements with which small entities must comply.

The Regulatory Secretariat Division has submitted a copy of the IRFA to the Chief Counsel for Advocacy of the Small Business Administration. A copy of the IRFA may be obtained from the Regulatory Secretariat Division. DoD, GSA, and NASA invite comments from small business concerns and other interested parties on the expected impact of this rule on small entities.

DoD, GSA, and NASA will also consider comments from small entities concerning the existing regulations in subparts affected by the rule in accordance with 5 U.S.C. 610. Interested parties must submit such comments separately and should cite 5 U.S.C. 610 (FAR Case 2018-007), in correspondence.

VII. Paperwork Reduction Act

The Paperwork Reduction Act (44 U.S.C. Chapter 35) does apply; however, the proposed changes to the FAR do not impose new information collection requirements that require the approval of the Office of Management and Budget (OMB) under 44 U.S.C. 3501, et seq. The changes do not impose additional information collection requirements to the paperwork burden previously approved under the following OMB Control Numbers: 9000-0007, Subcontracting Plans; 9000-0018, Certification Of Independent Price Determination, Contractor Code of Business Ethics and Conduct, and Preventing Personal Conflicts of Interest; 9000-0027, Value Engineering Requirements; 9000-0094, Debarment, Suspension, and Other Responsibility Matters; 9000-0091, Anti-Kickback Procedures; 9000-0159, System for Award Management Registration (SAM); 9000-0136, Commercial Item Acquisitions; 9000-0034, Examination of Records by Comptroller General and Contract Audit; 9000-0013, Certified Cost or Pricing Data and Data Other Than Certified Cost or Pricing Data; 9000-0048, Authorized Negotiators and Integrity of Unit Prices; 9000-0173, Limitations on Pass-Through Charges; 9000-0045, Bid Guarantees, Performance, and Payments Bonds, and Alternative Payment Protection; 9000-0010, Progress Payments, SF 1443; 9000-0149, Subcontract Consent and Contractors' Purchasing System Review; 1235-0007, Labor Standards for Federal Service Contracts; 1235-0025, Nondisplacement of Qualified Workers Under Service Contracts, Executive Order 13495; 1250-0004, Office of Federal Contract Compliance Programs Recordkeeping and Reporting Requirements Under the Vietnam Era Veterans' Readjustment Assistance Act of 1974, as Amended; and 1250-0005, Office of Federal Contract Compliance Programs Recordkeeping and Reporting Requirements Under Rehabilitation Act of 1973, as Amended Section 503.

List of Subjects in 48 CFR Parts 1, 5, 8, 9, 12, 13, 15, 19, 22, 25, 30, 50, and 52

Government procurement.

William F. Clark,
Director, Office of Government-wide Acquisition Policy, Office of Acquisition Policy, Office of Government-wide Policy.

Therefore, DoD, GSA, and NASA are proposing to amend 48 CFR parts 1, 5, 8, 9, 12, 13, 15, 19, 22, 25, 30, 50, and 52 as set forth below:

1. The authority citation for 48 CFR parts 1, 5, 8, 9, 12, 13, 15, 19, 22, 25, 30, 50, and 52 continues to read as follows:

Authority: 40 U.S.C. 121(c); 10 U.S.C. chapter 137; and 51 U.S.C. 20113.

PART 1—FEDERAL ACQUISITION REGULATIONS SYSTEM

2. Amend section 1.109 by—

a. Removing from paragraph (a) “Index (CPI) for all-urban consumers” and adding “Index for All Urban Consumers (CPI-U)” in its place;

b. Redesignating paragraph (d) as paragraph (e);

c. Adding a new paragraph (d); and

d. Removing from the newly redesignated paragraph (e) “2014-022” and adding “2014-022, open the docket folder, and go to the supporting documents file” in its place.

The addition reads as follows:

1.109 Statutory acquisition-related dollar thresholds—adjustment for inflation.

* * * * *

(d) The statute, as amended by section 821 of the National Defense Authorization Act for Fiscal Year 2018 (Pub. L. 115-91), requires the adjustment described in paragraph (a) of this section be applied to contracts and subcontracts without regard to the date of award of the contract or subcontract. Therefore, if a threshold is adjusted for inflation as set forth in paragraph (a) of this section, then the changed threshold applies throughout the remaining term of the contract, unless there is a subsequent threshold adjustment.

* * * * *

1.110 [Amended]

3. Amend section 1.110, paragraph (c), in the table, under the Title column of entry “Walsh-Healey Public Contracts Act” by removing “$15,000” and adding “$10,000” in its place.

PART 5—PUBLICIZING CONTRACT ACTIONS

5.206 [Amended]

4. Amend section 5.206 by removing from paragraphs (a)(1) and (2) “$150,000” and adding “the simplified acquisition threshold” in their places, respectively.

PART 8—REQUIRED SOURCES OF SUPPLIES AND SERVICES

8.1104 [Amended]

5. Amend section 8.1104 by removing from paragraph (e)(3) “Exceeding $15,000”.

PART 9—CONTRACTOR QUALIFICATIONS

6. Amend section 9.405-2 by revising the second sentence of paragraph (b) to read as follows:

9.405-2 Restrictions on subcontracting.

* * * * *

(b) * * * Contractors are prohibited from entering into any subcontract in excess of $35,000, other than a subcontract for a commercially available off-the-shelf item, with a contractor that has been debarred, suspended, or proposed for debarment, unless there is a compelling reason to do so. * * *

* * * * *

PART 12—ACQUISITION OF COMMERCIAL ITEMS

12.503 [Amended]

7. Amend section 12.503 by removing from paragraph (a)(1) “$15,000” and adding “$10,000” in its place.

12.504 [Amended]

8. Amend section 12.504 by removing from paragraph (a)(4) “$15,000” and adding “$10,000” in its place.

PART 13—SIMPLIFIED ACQUISITION PROCEDURES

9. Amend section 13.003 by revising paragraph (b)(1) to read as follows:

13.003 Policy.

* * * * *

(b)(1) Acquisitions of supplies or services that have an anticipated dollar value above the micro-purchase threshold, but at or below the simplified acquisition threshold, are reserved exclusively for small business concerns and shall be set aside (see 19.000, 19.203, and subpart 19.5).

* * * * *

13.501 [Amended]

10. Amend section 13.501 by removing from paragraph (a)(2)(i) “$150,000” and adding “the simplified acquisition threshold” in its place.

PART 15—CONTRACTING BY NEGOTIATION

11. Amend section 15.403-4, by adding a new sentence, after the third sentence, in paragraph (a)(1), to read as follows:

15.403-4 Requiring certified cost or pricing data (10 U.S.C. 2306a and 41 U.S.C. chapter 35).

(a)(1) * * * When a clause refers to this threshold, and if the threshold is adjusted for inflation pursuant to 1.109(a), then pursuant to 1.109(d) the changed threshold applies throughout the remaining term of the contract, unless there is a subsequent threshold adjustment. * * *

* * * * *

PART 19—SMALL BUSINESS PROGRAMS

12. Amend section 19.203 by revising paragraph (b) to read as follows:

19.203 Relationship among small business programs.

* * * * *

(b) At or below the simplified acquisition threshold. For acquisitions of supplies or services that have an anticipated dollar value above the micro-purchase threshold, but at or below the simplified acquisition threshold, the requirement at 19.502-2(a) to exclusively reserve acquisitions for small business concerns does not preclude the contracting officer from awarding a contract to a small business under the 8(a) Program, HUBZone Program, SDVOSB Program, or WOSB Program.

* * * * *

13. Amend section 19.502-1 by revising paragraph (b) to read as follows:

19.502-1 Requirements for setting aside acquisitions.

* * * * *

(b) This requirement does not apply to purchases at or below the micro-purchase threshold, or purchases from required sources of supply under part 8 (e.g., Committee for Purchase From People Who are Blind or Severely Disabled, and Federal Supply Schedule contracts).

14. Amend section 19.502-2 by—

a. Revising the second sentence of paragraph (a); and

b. Removing from paragraph (b) “$150,000” and adding “the simplified acquisition threshold” in its place.

The revision reads as follows:

19.502-2 Total small business set-asides.

(a) * * * Each acquisition of supplies or services that has an anticipated dollar value above the micro-purchase threshold, but not over the simplified acquisition threshold, is automatically reserved exclusively for small business concerns and shall be set aside for small business unless the contracting officer determines there is not a reasonable expectation of obtaining offers from two or more responsible small business concerns that are competitive in terms of market prices, quality, and delivery. * * *

* * * * *

19.508 [Amended]

15. Amend section 19.508 by removing from paragraph (e) “$150,000” and adding “the simplified acquisition threshold” in its place.

PART 22—APPLICATION OF LABOR LAWS TO GOVERNMENT ACQUISITIONS

22.102-2 [Amended]

16. Amend section 22.102-2 by removing from paragraph (c)(1)(iv) “$15,000” and adding “$10,000” in its place.

22.202 [Amended]

17. Amend section 22.202 by removing from paragraph (a) “, Contracts for Materials, Supplies, Articles, and Equipment Exceeding $15,000”.

22.305 [Amended]

18. Amend section 22.305 by removing from paragraph (e)“, Contracts for Materials, Supplies, Articles, and Equipment Exceeding $15,000”.

19. Revise the heading of subpart 22.6 to read as follows:

Subpart 22.6—Contracts For Materials, Supplies, Articles, and Equipment

22.602 [Amended]

20. Amend section 22.602 by removing “, Contracts for Materials, Supplies, Articles, and Equipment Exceeding $15,000”.

22.610 [Amended]

21. Amend section 22.610 by removing “Exceeding $15,000”.

22.1003-3 [Amended]

22. Amend section 22.1003-3 by removing from paragraph (b)“, Contracts for Materials, Supplies, Articles, and Equipment Exceeding $15,000”.

22.1003-6 [Amended]

23. Amend section 22.1003-6 by removing from paragraph (a)“, Contracts for Materials, Supplies, Articles, and Equipment Exceeding $15,000,”.

PART 25—FOREIGN ACQUISITION

25.703-4 [Amended]

25. Amend section 25.703-4 by removing from paragraphs (c)(5)(ii), (c)(7)(iii), and (c)(8)(iii) “$3,500” and adding “the threshold at FAR 25.703-2(a)(2)” in their places, respectively.

PART 30—COST ACCOUNTING STANDARDS ADMINISTRATION

26. Amend section 30.201-1 by redesignating the undesignated text as paragraph (a) and adding paragraph (b) to read as follows:

30.201-1 CAS applicability.

* * * * *

(b) In accordance with 41 U.S.C. 1502(b)(1)(B), the lower threshold for applicability of CAS is the amount set forth in 10 U.S.C. 2306a(a)(1)(A)(i), as adjusted for inflation in accordance with 41 U.S.C. 1908.

PART 50—EXTRAORDINARY CONTRACTUAL ACTIONS AND THE SAFETY ACT

50.103-7 [Amended]

27. Amend section 50.103-7 by removing from paragraph (b) “Exceeding $15,000”.

PART 52—SOLICITATION PROVISIONS AND CONTRACT CLAUSES

28. Amend section 52.202-1 by—

a. Revising the date of the clause;

b. Removing from paragraph (c) “meaning; or” and adding “meaning;” in its place;

c. Removing from paragraph (d) “Part” and “procedures.” and adding “part” and “procedures; or” in their places, respectively; and

d. Adding paragraph (e).

The revision and addition read as follows:

52.202-1 Definitions.

* * * * *

Definitions ([DATE])

* * * * *

(e) The word or term defines an acquisition-related threshold (i.e., “micro-purchase threshold” or “simplified acquisition threshold”), and if the threshold is adjusted for inflation as set forth in FAR 1.109(a), then the changed threshold applies throughout the remaining term of the contract, unless there is a subsequent threshold adjustment; see FAR 1.109(d).

* * * * *

29. Amend section 52.203-6 by revising the date of the clause and removing from paragraph (c) “threshold” and adding “threshold, as defined in Federal Acquisition Regulation 2.101 on the date of subcontract award” in its place.

The revision reads as follows:

52.203-6 Restrictions on Subcontractor Sales to the Government.

* * * * *

Restrictions on Subcontractor Sales to the Government ([DATE])

* * * * *

30. Amend section 52.203-7 by revising the date of the clause and removing from paragraph (c)(5) “under under this contract which exceed $150,000” and adding “under this contract that exceed the threshold specified in FAR 3.502-2(i) on the date of subcontract award” in its place.

The revision reads as follows:

52.203-7 Anti-Kickback Procedures.

* * * * *

Anti-Kickback Procedures ([DATE])

* * * * *

31. Amend section 52.203-12 by—

a. Revising the date of the clause;

b. Removing from paragraph (g)(1) “exceeding $150,000 under this contract” and adding “under this contract that exceeds the threshold specified in FAR 3.808 on the date of subcontract award” in its place; and

c. Removing from paragraph (g)(3) “exceeding $150,000” and adding “that exceeds the threshold specified in FAR 3.808 on the date of subcontract award” in its place.

The revision reads as follows:

52.203-12 Limitation on Payments to Influence Certain Federal Transactions.

* * * * *

Limitation on Payments to Influence Certain Federal Transactions ([DATE])

* * * * *

32. Amend section 52.203-13 by revising the date of the clause and removing from paragraph (d)(1) “have a value in excess of $5.5 million” and adding “exceed the threshold specified in FAR 3.1004(a) on the date of subcontract award” in its place.

The revision reads as follows:

52.203-13 Contractor Code of Business Ethics and Conduct.

* * * * *

Contractor Code of Business Ethics and Conduct ([DATE])

* * * * *

33. Amend section 52.203-14 by revising the date of the clause and removing from paragraph (d) introductory text “$5.5 million” and adding “the threshold specified in Federal Acquisition Regulation 3.1004(b)(1) on the date of subcontract award” in its place.

The revision reads as follows:

52.203-14 Display of Hotline Poster(s).

* * * * *

Display of Hotline Poster(s) ([DATE])

* * * * *

34. Amend section 52.203-16 by revising the date of the clause and removing from paragraph (d)(1) “$150,000” and adding “the simplified acquisition threshold, as defined in Federal Acquisition Regulation 2.101 on the date of subcontract award” in its place.

The revision reads as follows:

52.203-16 Preventing Personal Conflicts of Interest.

* * * * *

Preventing Personal Conflicts of Interest ([DATE])

* * * * *

35. Amend section 52.203-17 by—

a. Revising the date of the clause;

b. Removing from paragraph (a) “FAR” and adding “Federal Acquisition Regulation (FAR)”;

c. Removing from paragraph (b) “section 3.908 of the Federal Acquisition Regulation” and adding “FAR 3.908” in its place; and

d. Removing from paragraph (c) “threshold” and adding “threshold, as defined in FAR 2.101 on the date of subcontract award” in its place.

The revision reads as follows:

52.203-17 Contractor Employee Whistleblower Rights and Requirement To Inform Employees of Whistleblower Rights.

* * * * *

Contractor Employee Whistleblower Rights and Requirement To Inform Employees of Whistleblower Rights ([DATE])

* * * * *

36. Amend section 52.204-10 by—

a. Revising the date of the clause;

b. Removing from paragraph (d)(1) introductory text “FAR” and adding “Federal Acquisition Regulation (FAR)” in its place;

c. Removing from paragraph (d)(2) introductory text “contracting officer” and “with a value of $30,000 or more” and adding “Contracting Officer” and “valued at or above the threshold specified in FAR 4.1403(a) on the date of subcontract award” in their places, respectively;

d. Removing from paragraph (d)(3) introductory text “with a value of $30,000 or more” and adding “valued at or above the threshold specified in FAR 4.1403(a) on the date of subcontract award” in its place; and

e. Removing from paragraph (e) “less than $30,000” and adding “below the threshold specified in FAR 4.1403(a), on the date of subcontract award,” in its place.

The revision reads as follows:

52.204-10 Reporting Executive Compensation and First-Tier Subcontract Awards.

* * * * *

Reporting Executive Compensation and First-Tier Subcontract Awards ([DATE])

* * * * *

37. Amend section 52.209-6 by—

a. Revising the date of the clause;

b. Removing from paragraph (a)(1)(i) “FAR” and adding “Federal Acquisition Regulation (FAR)” in its place;

c. Removing from paragraph (b) “$35,000” and adding “the threshold specified in FAR 9.405-2(b) on the date of subcontract award,” in its place;

d. Removing from paragraph (c) “$35,000” and adding “the threshold specified in FAR 9.405-2(b) on the date of subcontract award” in its place; and

e. Removing from paragraph (e)(1) “$35,000 in value” and adding “the threshold specified in FAR 9.405-2(b) on the date of subcontract award” in its place.

The revision reads as follows:

52.209-6 Protecting the Government's Interest When Subcontracting With Contractors Debarred, Suspended, or Proposed for Debarment.

* * * * *

Protecting the Government's Interest When Subcontracting With Contractors Debarred, Suspended, or Proposed for Debarment ([DATE])

* * * * *

38. Amend section 52.210-1 by—

a. Revising the date of the clause and paragraph (a); and

b. Removing from paragraph (b) introductory text “threshold” and adding “threshold, as defined in FAR 2.101 on the date of subcontract award,” in its place.

The revisions read as follows:

52.210-1 Market Research.

* * * * *

Market Research ([DATE])

* * * * *

(a) Definition. As used in this clause—

Commercial item and nondevelopmental item have the meaning contained in Federal Acquisition Regulation (FAR) 2.101.

* * * * *

39. Amend section 52.212-1 by revising the date of the provision and removing from paragraph (j) “exceeding $3,500, and offers of $3,500 or less” and “see subpart 32.11” and adding “that exceed the micro-purchase threshold, and offers at or below the micro-purchase threshold” and “see FAR subpart 32.11” in their places, respectively.

The revision reads as follows:

52.212-1 Instructions to Offerors—Commercial Items.

* * * * *

Instructions to Offerors—Commercial Items ([DATE])

* * * * *

40. Amend section 52.212-3 by revising the date of the provision and removing from paragraph (o)(2)(iii) “$3,500” and adding “the threshold at FAR 25.703-2(a)(2)” in its place.

The revision reads as follows:

52.212-3 Offeror Representations and Certifications—Commercial Items.

* * * * *

Offeror Representations and Certifications—Commercial Items ([DATE])

* * * * *

41. Amend section 52.212-5 by—

a. Revising the date of the clause;

b. Amending paragraph (b) by—

i. Removing from paragraph (b)(1) “(SEP 2006)” and adding “([DATE])” in its place;

ii. Removing from paragraph (b)(2) “(OCT 2015)” and adding “([DATE])” in its place;

iii. Removing from paragraph (b)(4) “(OCT 2018)” and adding “([DATE])” in its place;

iv. Removing from paragraph (b)(8) “(Oct 2015)” and adding “([DATE])” in its place;

v. Removing from paragraph (b)(17)(i) “(AUG 2018)” and adding “([DATE])” in its place;

vi. Removing from paragraph (b)(17)(iv) “(NOV 2016)” and adding “([DATE]) in its place;

vii. Removing from paragraph (b)(17)(v) “(AUG 2018)” and adding “([DATE])” in its place;

viii. Removing from paragraph (b)(29)(i) “(OCT 2015)” and adding “([DATE])” in its place;

ix. Removing from paragraph (b)(30)(i) “(JUL 2014)” and adding “([DATE])” in its place;

x. Removing from paragraph (b)(31) “(FEB 2016)” and adding “([DATE])” in its place;

xi. Removing from paragraph (b)(42) “(AUG 2011)” and adding “([DATE]) (E.O. 13513)” in its place;

xii. Removing from paragraph (c)(1) “(May 2014)” and adding “([DATE])” in its place, and removing from paragraph (c)(10) “(MAY 2014)” and adding “([DATE])” in its place;

xiii. Removing from paragraph (d) introductory text “threshold,” and adding “threshold, as defined in FAR 2.101, on the date of award of this contract,” in its place;

xiv. Removing from paragraph (e)(1)(i) “(Oct 2015)” and adding “([DATE])” in its place;

xv. Removing from paragraph (e)(1)(iv) “$700,000 ($1.5 million for construction of any public facility)” and adding “the applicable threshold specified in FAR 19.702(a) on the date of subcontract award” in its place;

xvi. Removing from paragraph (e)(1)(v) “(MAY 2014)” and adding “([DATE])” in its place;

xvii. Removing from paragraph (e)(1)(viii) “(Oct 2015)” and adding “([DATE])” in its place;

xviii. Removing from paragraph (e)(1)(ix) “(July 2014)” and adding “([DATE])” in its place;

xix. Removing from paragraph (e)(1)(x) “(FEB 2016)” and adding “([DATE])” in its place;

xx. Removing from paragraph (e)(1)(xxi) “(MAY 2014)” and adding “([DATE])” in its place;

xxi. Revising the date of Alternate II;

xxii. Removing from paragraph (e)(1)(ii)(A) of Alternate II “(Oct 2015)” and adding “([DATE])” in its place;

xxiii. Removing from paragraph (e)(1)(ii)(D) of Alternate II “$700,000 ($1.5 million for construction of any public facility)” and adding “the applicable threshold specified in FAR 19.702(a) on the date of subcontract award” in its place;

xxiv. Removing from paragraph (e)(1)(ii)(G) of Alternate II “(Oct 2015)” and adding “([DATE])” in its place;

xxv. Removing from paragraph (e)(1)(ii)(H) of Alternate II “(July 2014)” and adding “([DATE])” in its place; and

xxvi. Removing from paragraph (e)(1)(ii)(S) of Alternate II “(MAY 2014)” and adding “([DATE])” in its place.

The revisions read as follows:

52.212-5 Contract Terms and Conditions Required To Implement Statutes or Executive Orders—Commercial Items.

* * * * *

Contract Terms and Conditions Required to Implement Statutes or Executive Orders—Commercial Items ([DATE])

* * * * *

Alternate II ([DATE]). * * *

* * * * *

42. Amend section 52.213-4 by—

a. Revising the date of the clause;

b. Removing from paragraph (a)(2)(iv) “(JAN 2017)” and adding “(JAN 2017).” and removing from paragraph (a)(2)(viii) “(JAN 2019)” and adding “([DATE])” in its place;

c. Revising paragraphs (b)(1)(i) through (iv), the first sentence of paragraph (b)(1)(v), and revising paragraph (b)(1)(vi);

d. Removing from paragraph (b)(1)(xvii) introductory text “threshold” and adding “threshold, as defined in FAR 2.101 on the date of award of this contract,” in its place; and

e. Revising paragraphs (b)(1)(xviii) and (b)(2)(ii).

The revisions read as follows:

52.213-4 Terms and Conditions—Simplified Acquisitions (Other Than Commercial Items).

* * * * *

Terms and Conditions—Simplified Acquisitions (Other Than Commercial Items) ([DATE])

* * * * *

(b) * * *

(1) * * *

(i) 52.204-10, Reporting Executive Compensation and First-Tier Subcontract Awards ([DATE]) (Pub. L. 109-282) (31 U.S.C. 6101 note) (Applies to contracts valued at or above the threshold specified in FAR 4.1403(a) on the date of award of this contract).

(ii) 52.222-19, Child Labor—Cooperation with Authorities and Remedies (JAN 2018) (E.O. 13126) (Applies to contracts for supplies exceeding the micro-purchase threshold, as defined in FAR 2.101 on the date of award of this contract).

(iii) 52.222-20, Contracts for Materials, Supplies, Articles, and Equipment ([DATE])(41 U.S.C. chapter 65) (Applies to supply contracts over the threshold specified in FAR 22.602 on the date of award of this contract, in the United States, Puerto Rico, or the U.S. Virgin Islands).

(iv) 52.222-35, Equal Opportunity for Veterans ([DATE]) (38 U.S.C. 4212) (Applies to contracts valued at or above the threshold specified in FAR 22.1303(a) on the date of award of this contract).

(v) 52.222-36, Equal Employment for Workers with Disabilities ([DATE])(29 U.S.C. 793) (Applies to contracts over the threshold specified in FAR 22.1408(a) on the date of award of this contract, unless the work is to be performed outside the United States by employees recruited outside the United States). * * *

(vi) 52.222-37, Employment Reports on Veterans ([DATE])(38 U.S.C. 4212) (Applies to contracts valued at or above the threshold specified in FAR 22.1303(a) on the date of award of this contract).

* * * * *

(xviii) 52.226-6, Promoting Excess Food Donation to Nonprofit Organizations ([DATE])(42 U.S.C. 1792) (Applies to contracts greater than the threshold specified in FAR 26.404 on the date of award of this contract, that provide for the provision, the service, or the sale of food in the United States).

* * * * *

(2) * * *

(ii) 52.209-6, Protecting the Government's Interest When Subcontracting with Contractors Debarred, Suspended, or Proposed for Debarment ([DATE])(Applies to contracts over the threshold specified in FAR 9.405-2(b) on the date of award of this contract).

* * * * *

43. Amend section 52.214-26 by revising the date of the clause and removing from paragraph (e) “in FAR 15.403-4(a)(1) for submission of certified cost or pricing data” and adding “for submission of certified cost or pricing data in FAR 15.403-4(a)(1) on the date of subcontract award” in its place.

The revision reads as follows:

52.214-26 Audit and Records—Sealed Bidding.

* * * * *

Audit and Records—Sealed Bidding ([DATE])

* * * * *

44. Amend section 52.214-27 by revising the date of the clause and removing from paragraph (a) “at FAR 15.403-4(a)(1)” and adding “in Federal Acquisition Regulation (FAR) 15.403-4(a)(1) on the date of execution of the modification” in its place.

The revision reads as follows:

52.214-27 Price Reduction for Defective Certified Cost or Pricing Data—Modifications—Sealed Bidding.

* * * * *

Price Reduction for Defective Certified Cost or Pricing Data—Modifications—Sealed Bidding ([DATE])

* * * * *

45. Amend section 52.214-28 by—

a. Revising the date of the clause;

b. Removing from paragraph (a)(1) “at (FAR) 48 CFR 15.403-4(a)(1)” and adding “in Federal Acquisition Regulation (FAR) 15.403-4(a)(1) on the date of execution of the modification” in its place;

c. Removing from paragraph (b) “at FAR 15.403-4(a)(1)” twice and adding “in FAR 15.403-4(a)(1)” in their places, respectively, and adding a sentence to the end of the paragraph; and

d. Removing from paragraph (d) “at FAR 15.403-4(a)(1)” and adding “in FAR 15.403-4(a)(1)” in its place.

The revision and addition reads as follows:

52.214-28 Subcontractor Certified Cost or Pricing Data—Modifications—Sealed Bidding.

* * * * *

Subcontractor Certified Cost or Pricing Data—Modifications—Sealed Bidding ([DATE])

* * * * *

(b) * * * If the threshold for submission of certified cost or pricing data specified in FAR 15.403-4(a)(1) is adjusted for inflation as set forth in FAR 1.109(a), then pursuant to FAR 1.109(d) the changed threshold applies throughout the remaining term of the contract, unless there is a subsequent threshold adjustment.

* * * * *

46. Amend section 52.215-2 by revising the date of the clause and removing from paragraph (g) introductory text “threshold” and adding “threshold, as defined in FAR 2.101 on the date of subcontract award,” in its place.

The revision reads as follows:

52.215-2 Audit and Records—Negotiation.

* * * * *

Audit and Records—Negotiation ([DATE])

* * * * *

47. Amend section 52.215-11 by revising the date of the clause and removing from paragraph (a) “at FAR 15.403-4” and “FAR 15.403-1” and adding “in Federal Acquisition Regulation (FAR) 15.403-4(a)(1) on the date of execution of the modification” and “FAR 15.403-1(b)” in their places, respectively.

The revision reads as follows:

52.215-11 Price Reduction for Defective Certified Cost or Pricing Data—Modifications.

* * * * *

Price Reduction for Defective Certified Cost or Pricing Data—Modifications ([DATE])

* * * * *

48. Amend section 52.215-12 by—

a. Revising the date of the clause;

b. In paragraph (a)—

i. Removing the first use of

“at FAR 15.403-4” and adding “in Federal Acquisition Regulation (FAR) 15.403-4” in its place;

ii. Removing “at FAR 15.403-4, the Contractor” and “FAR 15.403-1” and adding “in FAR 15.403-4(a)(1), the Contractor” and “FAR 15.403-1(b)” in their places, respectively; and

iii. Adding a new sentence to the end of the paragraph; and

c. Revising paragraph (c) introductory text.

The revisions and addition reads as follows:

52.215-12 Subcontractor Certified Cost or Pricing Data.

* * * * *

Subcontractor Certified Cost or Pricing Data ([DATE])

* * * * *

(a) * * * If the threshold for submission of certified cost or pricing data specified in FAR 15.403-4(a)(1) is adjusted for inflation as set forth in FAR 1.109(a), then pursuant to FAR 1.109(d) the changed threshold applies throughout the remaining term of the contract, unless there is a subsequent threshold adjustment.

* * * * *

(c) In each subcontract that, when entered into, exceeds the threshold for submission of certified cost or pricing data in FAR 15.403-4(a)(1), the Contractor shall insert either—

* * * * *

49. Amend section 52.215-13 by—

a. Revising the date of the clause;

b. Removing from paragraph (a)(1) “at FAR 15.403-4” and adding “in Federal Acquisition Regulation (FAR) 15.403-4(a)(1) on the date of execution of the modification” in its place;

c. Removing from paragraph (b) “at FAR 15.403-4” twice and “FAR 15.403-1” and adding “in FAR 15.403-4(a)(1)” twice and “FAR 15.403-1(b)” in their places, respectively, and adding a sentence to the end of the paragraph; and

d. Removing from paragraph (d) “at FAR 15.403-4” and adding “in FAR 15.403-4(a)(1)” in its place.

The revision and addition reads as follows:

52.215-13 Subcontractor Certified Cost or Pricing Data—Modifications.

* * * * *

Subcontractor Certified Cost or Pricing Data—Modifications ([DATE])

* * * * *

(b) * * * If the threshold for submission of certified cost or pricing data specified in FAR 15.403-4(a)(1) is adjusted for inflation as set forth in FAR 1.109(a), then pursuant to FAR 1.109(d) the changed threshold applies throughout the remaining term of the contract, unless there is a subsequent threshold adjustment.

* * * * *

50. Amend section 52.215-14 by revising the date of the clause and paragraph (c) to read as follows:

52.215-14 Integrity of Unit Prices.

* * * * *

Integrity of Unit Prices ([DATE])

* * * * *

(c) The Contractor shall insert the substance of this clause, less paragraph (b), in all subcontracts for other than: acquisitions at or below the simplified acquisition threshold, as defined in Federal Acquisition Regulation (FAR) 2.101 on the date of subcontract award; construction or architect-engineer services under FAR part 36; utility services under FAR part 41; services where supplies are not required; commercial items; and petroleum products.

* * * * *

51. Amend section 52.215-21 by revising the date of the clause and paragraph (a)(1) introductory text to read as follows:

52.215-21 Requirements for Certified Cost or Pricing Data and Data Other Than Certified Cost or Pricing Data—Modifications.

* * * * *

Requirements for Certified Cost or Pricing Data and Data Other Than Certified Cost or Pricing Data—Modifications ([DATE])

* * * * *

(a) * * *

(1) In lieu of submitting certified cost or pricing data for modifications under this contract, for price adjustments expected to exceed the threshold set forth in Federal Acquisition Regulation (FAR) 15.403-4(a)(1) on the date of the agreement on price or the date of the award, whichever is later, the Contractor may submit a written request for exception by submitting the information described in the following subparagraphs. If the threshold for submission of certified cost or pricing data specified in FAR 15.403-4(a)(1) is adjusted for inflation as set forth in FAR 1.109(a), then pursuant to FAR 1.109(d) the changed threshold applies throughout the remaining term of the contract, unless there is a subsequent threshold adjustment. The Contracting Officer may require additional supporting information, but only to the extent necessary to determine whether an exception should be granted, and whether the price is fair and reasonable—

* * * * *

52. Amend section 52.215-23 by—

a. Revising the date of the clause;

b. Removing from the defined term “Subcontract” “FAR 2.101” and adding “Federal Acquisition Regulation (FAR) 2.101” in its place; and

c. Revising paragraph (f).

The revision reads as follows:

52.215-23 Limitations on Pass-Through Charges.

* * * * *

Limitations on Pass-Through Charges ([DATE])

* * * * *

(f) Flowdown. The Contractor shall insert the substance of this clause, including this paragraph (f), in all cost-reimbursement subcontracts under this contract that exceed the simplified acquisition threshold, as defined in FAR 2.101 on the date of subcontract award, except if the contract is with DoD, then insert in all cost-reimbursement subcontracts and fixed-price subcontracts, except those identified in FAR 15.408(n)(2)(i)(B)(2), that exceed the threshold for obtaining cost or pricing data in FAR 15.403-4(a)(1) on the date of subcontract award.

* * * * *

53. Amend section 52.219-9 by—

a. Revising the date of the clause;

b. Removing from paragraph (d)(9) “$700,000 ($1.5 million for construction of any public facility)” and adding “the applicable threshold specified in Federal Acquisition Regulation (FAR) 19.702(a) on the date of subcontract award,” in its place;

c. Removing from paragraph (d)(11)(iii) introductory text “$150,000” and adding “the simplified acquisition threshold, as defined in FAR 2.101 on the date of subcontract award” in its place;

d. Removing from paragraph (e)(6) “threshold” and adding “threshold, as defined in FAR 2.101 on the date of subcontract award,” in its place;

e. Removing from paragraph (i) “threshold in 19.702(a)” and adding “threshold in FAR 19.702(a)” in its place;

f. Removing from paragraph (l)(2)(i)(C) “$700,000 (over $1.5 million for construction of a public facility) and” and adding “the applicable threshold specified in FAR 19.702(a), and the contract” in its place;

g. Revising the date of Alternate III and removing from paragraph (l)(2)(i)(C) of Alternate III “$700,000 (over $1.5 million for construction of a public facility) and” and adding “the applicable threshold specified in FAR 19.702(a), and the contract” in its place;

h. Revising the date of Alternate IV and removing from paragraph (d)(9) of Alternate IV “$700,000 ($1.5 million for construction of any public facility)” and adding “the applicable threshold specified in Federal Acquisition Regulation (FAR) 19.702(a) on the date of subcontract award,” in its place; and

i. Removing from paragraph (d)(11)(iii) introductory text of Alternate IV “$150,000” and adding “the simplified acquisition threshold, as defined in FAR 2.101 on the date of subcontract award” in its place.

The revisions read as follows:

52.219-9 Small Business Subcontracting Plan.

* * * * *

Small Business Subcontracting Plan ([DATE])

* * * * *

Alternate III ([DATE]). * * *

* * * * *

Alternate IV ([DATE]). * * *

* * * * *

54. Amend section 52.222-17 by—

a. Revising the date of the clause;

b. Removing from paragraph (c)(3) “(see FAR subpart 19.13)” and adding “(see Federal Acquisition Regulation (FAR) subpart 19.13)” in its place; and

c. Removing from paragraph (l) “threshold” and adding “threshold, as defined in FAR 2.101 on the date of subcontract award,” in its place.

The revision reads as follows:

52.222-17 Nondisplacement of Qualified Workers.

* * * * *

Nondisplacement of Qualified Workers ([DATE])

* * * * *

55. Amend section 52.222-20 by revising the section heading, the clause heading, and the date of the clause, and removing from the introductory text “$15,000” and adding “the threshold specified in Federal Acquisition Regulation (FAR) 22.602 on the date of award of this contract” in its place.

The revisions read as follows:

52.222-20 Contracts for Materials, Supplies, Articles, and Equipment.

* * * * *

Contracts for Materials, Supplies, Articles, and Equipment ([DATE])

* * * * *

56. Amend section 52.222-35 by—

a. Revising the date of the clause;

b. Removing from the defined term of paragraph (a) “FAR” and adding “Federal Acquisition Regulation (FAR)” in its place; and

c. Removing from paragraph (c) “of $150,000 or more” and adding “valued at or above the threshold specified in FAR 22.1303(a) on the date of subcontract award,” in its place.

The revision reads as follows:

52.222-35 Equal Opportunity for Veterans.

* * * * *

Equal Opportunity for Veterans ([DATE])

* * * * *

57. Amend section 52.222-36 by revising the date of the clause and removing from paragraph (b) “$15,000” and adding “the threshold specified in Federal Acquisition Regulation (FAR) 22.1408(a) on the date of subcontract award,” in its place.

The revision reads as follows:

52.222-36 Equal Opportunity for Workers with Disabilities.

* * * * *

Equal Opportunity for Workers With Disabilities ([DATE])

* * * * *

58. Amend section 52.222-37 by—

a. Revising the date of the clause;

b. Removing from paragraph (a) “FAR 22.1301” and adding “Federal Acquisition Regulation (FAR) 22.1301” in its place; and

c. Removing from paragraph (g) “of $150,000 or more” and adding “valued at or above the threshold specified in FAR 22.1303(a) on the date of subcontract award,” in its place.

The revision reads as follows:

52.222-37 Employment Reports on Veterans.

* * * * *

Employment Reports on Veterans ([DATE])

* * * * *

60. Amend section 52.223-18 by revising the date of the clause and removing from paragraph (d) “threshold” and adding “threshold, as defined in Federal Acquisition Regulation (FAR) 2.101 on the date of subcontract award” in its place.

The revision reads as follows:

52.223-18 Encouraging Contractor Policies To Ban Text Messaging While Driving.

* * * * *

Encouraging Contractor Policies To Ban Text Messaging While Driving ([DATE])

* * * * *

61. Amend section 52.225-25 by—

a. Revising the clause heading and date;

b. Removing from paragraph (c) introductory text “with 25.703-4” and adding “with Federal Acquisition Regulation (FAR) 25.703-4” in its place; and

c. Removing from paragraph (c)(3) “$3,500” and adding “the threshold at FAR 25.703-2(a)(2)” in its place.

The revision reads as follows:

52.225-25 Prohibition on Contracting with Entities Engaging in Certain Activities or Transactions Relating to Iran—Representation and Certifications.

* * * * *

Prohibition on Contracting With Entities Engaging in Certain Activities or Transactions Relating to Iran—Representation and Certifications ([DATE])

* * * * *

62. Amend section 52.226-6 by revising the heading and date of the clause, and removing from paragraph (e) “greater than $25,000” and adding “that exceed the threshold specified in Federal Acquisition Regulation (FAR) 26.404 on the date of subcontract award” in its place.

The revisions read as follows:

52.226-6 Promoting Excess Food Donation to Nonprofit Organizations.

* * * * *

Promoting Excess Food Donation to Nonprofit Organizations ([DATE])

* * * * *

63. Amend section 52.227-1 by revising the date of the clause and removing from paragraph (b) “threshold. However, omission of this clause from any subcontract, including those at or below the simplified acquisition threshold” and adding “threshold, as defined in Federal Acquisition Regulation (FAR) 2.101 on the date of subcontract award. However, omission of this clause from any subcontract, including those at or below the simplified acquisition threshold, as defined in FAR 2.101 on the date of subcontract award” in its place.

The revision reads as follows:

52.227-1 Authorization and Consent.

* * * * *

Authorization and Consent ([DATE])

* * * * *

64. Amend section 52.227-2 by revising the date of the clause and removing from paragraph (c) “threshold” and adding “threshold, as defined in Federal Acquisition Regulation (FAR) 2.101 on the date of subcontract award” in its place.

The revision reads as follows:

52.227-2 Notice and Assistance Regarding Patent and Copyright Infringement.

* * * * *

Notice and Assistance Regarding Patent and Copyright Infringement ([DATE])

* * * * *

65. Amend section 52.227-3 by revising the date of Alternate III and removing from the undesignated paragraph of Alternate III “threshold” and adding “threshold, as defined in Federal Acquisition Regulation (FAR) 2.101 on the date of subcontract award,” in its place.

The revision reads as follows:

52.227-3 Patent Indemnity.

* * * * *

Alternate III ([DATE]). * * *

* * * * *

66. Amend section 52.228-15 by revising the date of the clause and removing from paragraph (b) “$150,000 or less” and adding “valued at or below the threshold specified in Federal Acquisition Regulation (FAR) 28.102-1(a) on the date of award of this contract” in its place.

The revision reads as follows:

52.228-15 Performance and Payment Bonds—Construction.

* * * * *

Performance and Payment Bonds—Construction ([DATE])

* * * * *

67. Amend section 52.230-1 by—

a. Removing from the provision prescription reference “30.201-3” and adding “30.201-3(a)” in its place;

b. Revising the date of the provision; and

c. Removing from paragraph (a) “$750,000” and adding “the lower CAS threshold specified in Federal Acquisition Regulation (FAR) 30.201-4(b)” in its place.

The revision reads as follows:

52.230-1 Cost Accounting Standards Notices and Certification.

* * * * *

Cost Accounting Standards Notices and Certification ([DATE])

* * * * *

68. Amend section 52.230-2 by revising the date of the clause, and removing from paragraph (d) “Federal Acquisition Regulation” and “$750,000” and adding “Federal Acquisition Regulation (FAR)” and “the lower CAS threshold specified in FAR 30.201-4(b) on the date of subcontract award” in their places, respectively.

The revision reads as follows:

52.230-2 Cost Accounting Standards.

* * * * *

Cost Accounting Standards ([DATE])

* * * * *

69. Amend section 52.230-3 by revising the date of the clause, and removing from paragraph (d)(2) “$750,000” and adding “the lower CAS threshold specified in Federal Acquisition Regulation (FAR) 30.201-4(b) on the date of subcontract award” in its place.

The revision reads as follows:

52.230-3 Disclosure and Consistency of Cost Accounting Practices.

* * * * *

Disclosure and Consistency of Cost Accounting Practices ([DATE])

* * * * *

70. Amend section 52.230-4 by—

a. Revising the date of the clause;

b. Removing from paragraph (d)(1) “FAR 30.201-4” and adding “Federal Acquisition Regulation (FAR) 30.201-4” in its place; and

c. Removing from paragraph (d)(2) “$750,000” and adding “the lower CAS threshold specified in FAR 30.201-4(b) on the date of subcontract award” in its place.

The revision reads as follows:

52.230-4 Disclosure and Consistency of Cost Accounting Practices—Foreign Concerns.

* * * * *

Disclosure and Consistency of Cost Accounting Practices—Foreign Concerns ([DATE])

* * * * *

71. Amend section 52.230-5 by revising the date of the clause, and removing from paragraph (d)(2) “$750,000” and adding “the lower CAS threshold specified in Federal Acquisition Regulation (FAR) 30.201-4(b) on the date of subcontract award” in its place.

The revision reads as follows:

52.230-5 Cost Accounting Standards—Educational Institution.

* * * * *

Cost Accounting Standards—Educational Institution ([DATE])

* * * * *

72. Amend section 52.232-16 by—

a. Revising the date of the clause;

b. Removing from paragraph (a)(1) “FAR 31.205-10” and adding “Federal Acquisition Regulation (FAR) 31.205-10” in its place;

c. Revising the date of Alternate III and removing from paragraph (n) of Alternate III “threshold” and adding “threshold, as defined in FAR 2.101 on the date of individual order award” in its place.

The revision reads as follows:

52.232-16 Progress Payments.

* * * * *

Progress Payments ([DATE])

* * * * *

Alternate III ([DATE]). * * *

* * * * *

73. Amend section 52.244-2 by—

a. Revising the date of the clause;

b. Removing from paragraphs (c)(2)(i) and (ii) “threshold” and adding “threshold, as defined in FAR 2.101 on the date of subcontract award,” in their places, respectively;

c. Revising the date of Alternate I and removing from paragraph (e)(2) of Alternate I “threshold” and adding “threshold, as defined in FAR 2.101 on the date of subcontract award,” in its place.

The revisions read as follows:

52.244-2 Subcontracts.

* * * * *

Subcontracts ([DATE])

* * * * *

Alternate I ([DATE]). * * *

* * * * *

74. Amend section 52.244-6 by—

a. Revising the date of the clause;

b. Removing from paragraph (a) in the defined term “Commercial item and commercially available off-the-shelf item” “Federal Acquisition Regulation 2.101, Definitions” and adding “Federal Acquisition Regulation (FAR) 2.101,” in its place;

c. Removing from paragraph (c)(1)(i) “(Oct 2015)” and “$5.5 million” and adding “([DATE])” and “the threshold specified in FAR 3.1004(a) on the date of subcontract award,” in their places, respectively;

d. Removing from paragraph (c)(1)(vi) “$700,000 ($1.5 million for construction of any public facility)” and adding “the applicable threshold specified in FAR 19.702(a) on the date of subcontract award” in its place;

e. Removing from paragraph (c)(1)(ix) “(Oct 2015)” and “;” and adding “([DATE])” and “.” in their places, respectively;

f. Removing from paragraph (c)(1)(x) “(July 2014)” and adding “([DATE])” in its place; and

g. Removing from paragraph (c)(1)(xi) “(FEB 2016)” and adding “([DATE])” in its place;

The revisions read as follows:

52.244-6 Subcontracts for Commercial Items.

* * * * *

Subcontracts for Commercial Items ([DATE])

* * * * *

75. Amend section 52.248-1 by—

a. Revising the date of the clause;

b. Removing from paragraph (i)(5) “Federal Acquisition Regulation” and adding “Federal Acquisition Regulation (FAR)” in its place; and

c. Removing from paragraph (l) “of $150,000 or more” and adding “valued at or above the simplified acquisition threshold, as defined in FAR 2.101 on the date of subcontract award,” in its place.

The revision reads as follows:

52.248-1 Value Engineering.

* * * * *

Value Engineering ([DATE])

* * * * *

[FR Doc. 2019-12480 Filed 6-21-19; 8:45 am]

BILLING CODE 6820-EP-P